NUCLEAR REGULATORY COMMISSION

[NRC-2018-0085]

Biweekly Notice; Applications and Amendments to Facility Operating Licenses and Combined Licenses Involving No Significant Hazards Considerations

AGENCY: Nuclear Regulatory Commission.

ACTION: Biweekly notice.

SUMMARY: Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from April 10, 2018, to April 23, 2018. The last biweekly notice was published on April 24, 2018.

DATES: Comments must be filed by June 7, 2018. A request for a hearing must be filed by July 9, 2018.

ADDRESSES: You may submit comments by any of the following methods (unless this document describes a different method for submitting comments on a specific subject):

• Federal Rulemaking Website: Go to http://www.regulations.gov and search for Docket ID NRC-2018-0085. Address questions about NRC dockets to Jennifer Borges; telephone: 301-287-9127; email: Jennifer.Borges@nrc.gov. For technical questions, contact the individual listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Shirley Rohrer, U.S. Nuclear Regulatory Commission, Washington DC 20555-0001; telephone: 301-415-5411, email: Shirley.Rohrer@nrc.gov.

SUPPLEMENTARY INFORMATION:

I. Obtaining Information and Submitting Comments

A. Obtaining Information

Please refer to Docket ID NRC-2018-0085, facility name, unit number(s), plant docket number, application date, and subject when contacting the NRC about the availability of information for this action. You may obtain publicly-available information related to this action by any of the following methods:

• Federal Rulemaking Website: Go to http://www.regulations.gov and search for Docket ID NRC-2018-0085.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document

• NRC's PDR: You may examine and purchase copies of public documents at the NRC's PDR, Room O1-F21, One White Flint North, 11555 Rockville Pike, Rockville, Maryland 20852.

B. Submitting Comments

Please include Docket ID NRC-2018-0085, facility name, unit number(s), plant docket number, application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not: (1) Involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c). If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Exelon Generation Company, LLC, Docket Nos. 50-317 and 50-318, Calvert Cliffs Nuclear Power Plant (CCNPP), Unit Nos. 1 and 2, Calvert County, Maryland

Exelon Generation Company, LLC, Docket Nos. 50-220 and 50-410, Nine Mile Point Nuclear Station (NMP), Unit Nos. 1 and 2, Oswego County, New York

Exelon Generation Company, LLC, Docket No. 50-244, R.E. Ginna Nuclear Power Plant (Ginna), Wayne County, New York

Date of amendment request: March 26, 2018. A publicly-available version is in ADAMS under Accession No. ML18086A138.

Description of amendment request: The amendments would revise the licenses to eliminate the Nuclear Advisory Committee.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment deletes license conditions associated with the establishment of the Nuclear Advisory Committee (NAC) as provided in the orders approving the corporate merger between Exelon Corporation and Constellation Energy Group, Inc., and the resultant transfer of the renewed facility operating licenses for CCNPP, Units 1 and 2; NMP, Units 1 and 2; and Ginna on February 15, 2012.

The NAC's oversight function helps to ensure that Constellation Energy Nuclear Group (CENG) remains in compliance with laws and regulations regarding foreign domination and control of nuclear operations, and that a decision of a foreign government could not adversely affect or interfere with the reliable and safe operation of any nuclear assets of CENG or its affiliates.

The NAC is an advisory committee and does not function in a decision-making role. If the NAC becomes aware of a Foreign Ownership, Control, or Domination (FOCD) event or issue, it will bring it to the attention of CENG management and/or the CENG Board of Directors. The NAC advises the CENG Board of Directors and provides its recommendations regarding the regulatory or safety significance of the issue, and recommended actions to address the issue.

Eliminating the NAC will not impact compliance with FOCD requirements, nor will it impair the ability to identify and resolve any FOCD issues that could impact the safe or reliable operation of the nuclear units. Multiple avenues exist to resolve any concerns regarding FOCD issues. These include the ability of personnel to report an FOCD concern to their supervisor, enter a potential FOCD concern into the corrective action program, or raise the concern with the Employee Concerns Program. In addition, personnel are always free to report any concern directly to the NRC.

This proposed administrative change enables the elimination of the NAC and does not alter: 1) The extent of the ownership of the reactors, 2) the authority to operate the reactors, 3) the directors or officers and details concerning the relevant companies, 4) access to restricted data, or; 5) details concerning ownership of the foreign parent company. This change does not alter compliance with the Atomic Energy Act, 10 CFR 50.38, “Ineligibility of Certain Applicants,” or the guidance provided in the Standard Review Plan (SRP), Final Standard Review Plan on Foreign Ownership, Control, or Domination. Additionally, this administrative change will not impact reactor operations or safety analyses.

Therefore, the proposed change does not involve a significant increase in the probability or consequences of an accident previously evaluated.

2. Does the proposed amendment create the possibility of a new or different kind of accident from any accident previously evaluated?

Response: No.

This proposed administrative change enables the elimination of the NAC and does not alter: 1) The extent of the ownership of the reactors, 2) the authority to operate the reactors, 3) the directors or officers and details concerning the relevant companies, 4) access to restricted data, or; 5) details concerning ownership of the foreign parent company. This change does not alter compliance with the Atomic Energy Act, 10 CFR 50.38, “Ineligibility of Certain Applicants,” or the guidance provided in the Standard Review Plan (SRP), Final Standard Review Plan on Foreign Ownership, Control, or Domination.

Eliminating the NAC will not impact compliance with FOCD requirements, nor will it impair the ability to identify and resolve any FOCD issues that could impact the safe or reliable operation of the nuclear units. FOCD issues will be addressed via current processes (employees reporting to their supervisor, entering an issue into the corrective action program, raising the concern to the Employee Concerns Program, or reporting directly to the NRC).

This is an administrative change, and no new operating configuration is being imposed that would create a new failure scenario. In addition, no new failure modes are being created for any plant equipment. This change does not result in any new or different accident scenarios.

Therefore, the proposed change does not create the possibility of a new or different kind of accident from any previously evaluated.

3. Does the proposed amendment involve a significant reduction in a margin of safety?

Response: No.

This is an administrative change. No safety analyses are being changed or modified as a result of this proposed change. This proposed administrative change does not alter the manner in which safety limits, limiting safety system settings, or limiting conditions for operation are determined. Margins associated with the current safety analyses acceptance criteria are unaffected. The safety systems credited in the safety analyses will continue to be available to perform their mitigation functions.

Therefore, the proposed change does not result in a significant reduction in a margin of safety.

The NRC staff has reviewed the licensee's analysis and, based on this review, it appears that the three standards of 10 CFR 50.92(c) are satisfied. Therefore, the NRC staff proposes to determine that the requested amendments involve no significant hazards consideration.

Attorney for licensee: Tamra Domeyer, Associate General Counsel, Exelon Generation Company, LLC, 4300 Winfield Road, Warrenville, IL 60555.

NRC Branch Chief: David J. Wrona.

Indiana Michigan Power Company, Docket No. 50-315, Donald C. Cook Nuclear Plant (CNP), Unit No. 1, Berrien County, Michigan

Date of amendment request: March 7, 2018. A publicly-available version is in ADAMS under Accession No. ML18072A012.

Description of amendment request: The proposed change would allow for the application of leak-before-break (LBB) methodology to piping for the accumulator, residual heat removal, and safety injection systems at the CNP, Unit No. 1. In addition, the proposed change would modify technical specification (TS) 3.4.13, “RCS [Reactor Coolant System] Operational LEAKAGE.”

Basis for proposed no significant hazards consideration determination: As required by 10 CFR 50.91(a), the licensee has provided its analysis of the issue of no significant hazards consideration, which is presented below:

1. Does the proposed amendment involve a significant increase in the probability or consequences of an accident previously evaluated?

Response: No.

Overall protection system performance will remain within the bounds of the previously performed accident analyses. The design of the protection systems will be unaffected. The reactor protection system and engineered safety feature actuation system will continue to function in a manner consistent with the plant design basis. All design, material and construction standards that were applicable prior to the request are maintained.

For CNP, Unit 1, the bounding accident for pipe breaks is a Large Break Loss of Coolant Accident (LBLOCA). Since the application of the LBB analysis verifies the integrity of the piping attached to the reactor coolant system, the probability of a previously evaluated accident is not increased. The consequences of a LBLOCA have been previously evaluated and found to be acceptable. The application of the LBB analysis will cause no change in the dose analysis associated with a LBLOCA, and therefore, does not affect the consequences of an accident.

The proposed amendment will not alter any assumptions or change any mitigation actions in the radiological consequence evaluations in the Updated Final Safety Analysis Report (UFSAR).

Therefore, the proposed changes do not involve a significant increase in the probability or consequences of an accident previously evaluated.

2. Does the proposed amendment create the possibility of a new or different kind of accident from any previously evaluated?

Response: No.

No new accident scenarios, failure mechanisms, or single failures are introduced as a result of the proposed change. All systems, structures, and components previously required for the mitigation of an event remain capable of fulfilling their intended design function. The proposed change has no adverse effects on any safety related systems or components and does not challenge the performance or integrity of any safety related system. Further, there are no changes in the method by which any safety-related plant system performs its safety function. This amendment will not affect the normal method of power operation or change any operating parameters.

Therefore, the proposed changes do not create the possibility of a new or different kind of accident from any accident previously evaluated.

3. Does the proposed amendment involve a significant reduction in a margin of safety?

Response: No.

Margin of safety is related to the ability of the fission product barriers to perform their design functions during and following accident conditions. These barriers include the fuel cladding, the reactor coolant system, and the containment. The proposed amendment request does not involve a change to any of these barriers.

The proposed change does not involve a significant reduction in a margin of safety because the proposed changes do not reduce the margin of safety that exists in the present CNP Unit 1 TS or UFSAR. The operability requirements of the TS are consistent with the initial condition assumptions of the safety analyses.

This proposed amendment uses LBB technology combined with leakage monitoring to show that it is acceptable to exclude the dynamic effects associated with postulated pipe ruptures from the licensing basis for the systems evaluated that are attached to the RCS. The enclosed analysis demonstrates that the LBB margins discussed in NUREG-1061, Volume 3 are satisfied.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Robert B. Haemer, Senior Nuclear Counsel, One Cook Place, Bridgman, MI 49106.

NRC Branch Chief: David J. Wrona.

Tennessee Valley Authority (TVA), Docket No. 50-259, Browns Ferry Nuclear Plant (BFN), Unit 1, Limestone County, Alabama

Date of amendment request: March 16, 2018, as supplemented by letter dated April 19, 2018. Publicly-available versions are in ADAMS under Accession Nos. ML18080A171 and ML18109A573.

Description of amendment request: The amendment would revise License Condition 2.C(18)(a)3 for Unit 1 that requires the submittal of a revised Unit 1 replacement steam dryer (RSD) analysis utilizing the Unit 3 on-dryer strain gauge based end-to-end bias and uncertainties at extended power conditions “at least 90 days prior to the start of the BFN Unit 1 EPU [extended power uprate] outage.” TVA is unable to submit the revised Unit 1 RSD analysis 90 days prior to the start of the Unit 1 EPU outage, because of delays in Unit 3 power ascension. In its supplement dated April 19, 2018, TVA proposed to revise Unit 1 analysis submittal from 90 days before the outage to 60 days prior to exceeding 3458 megawatt thermal (MWt) after the outage. The license amendment request was originally noticed in the Federal Register on April 10, 2018 (83 FR 15418). The renotice replaces and supersedes the original notice in its entirety.

Basis for proposed no significant hazards consideration determination: As required by 10 CFR 50.91(a), the licensee has provided its analysis of the issue of no significant hazards consideration, which is presented below.

1. Does the proposed amendment involve a significant increase in the probability or consequence of an accident previously evaluated?

Response: No.

The proposed license amendment reduces the length of time, from 90 days prior to the outage to 60 days prior to exceeding 3458 MWt after the outage, by which a revised analysis of the Browns Ferry Nuclear Plant (BFN) Unit 1 replacement steam dryer (RSD), performed using an NRC-approved methodology benchmarked on the BFN Unit 3 RSD, must be submitted to the NRC for information. There is no required review or approval of the revised analysis needed to satisfy the license condition. The proposed change is an administrative change to the period before the outage and does not impact any system, structure or component in such a way as to affect the probability or consequences of an accident previously evaluated. The proposed amendment is purely administrative and has no technical or safety aspects. Therefore, the proposed change does not involve a significant increase in the probability or consequences of an accident previously evaluated.

2. Does the proposed amendment create the possibility of a new or different kind of accident from any accident previously evaluated?

Response: No.

The proposed license amendment reduces the length of time, from 90 days prior to the outage to 60 days prior to exceeding 3458 MWt after the outage, by which a revised analysis of the BFN Unit 1 RSD must be submitted to the NRC for information. The proposed amendment is purely administrative and has no technical or safety aspects. Therefore, the proposed change does not create the possibility of a new or different kind of accident from any accident previously evaluated.

3. Does the proposed amendment involve a significant reduction in a margin of safety?

Response: No.

The proposed license amendment reduces the length of time, from 90 days prior to the outage to 60 days prior to exceeding 3458 MWt after the outage, by which a revised analysis of the BFN Unit 1 RSD must be submitted to the NRC for information. The proposed amendment is purely administrative and has no technical or safety aspects. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, 6A West Tower, Knoxville, TN 37902.

NRC Acting Branch Chief: Brian W. Tindell.

United States Maritime Administration (MARAD), Docket No. 50-238, Nuclear Ship Savannah (NSS), Baltimore, Maryland

Date of amendment request: March 30, 2018. A publicly-available version is in ADAMS under Accession No. ML18093A377.

Description of amendment request: The proposed amendment would amend the Technical Specifications to establish controls for all accesses to the Containment Vessel (CV) in support of two structural modifications. One modification will construct a horizontal access portal to the CV that will be secured by a new D Deck CV Door. The other modification will restore the original forward access between the Cold Chemistry Laboratory (CCL) at D Deck and the Reactor Compartment (RC) Lower Level.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes will modify the Technical Specifications (TSs) to include all CV accesses into TS 3.7.1.1 and add two additional accesses into TS 3.7.1.5. The proposed changes are required by two modifications to plant equipment. The completed modification improved personnel access to the RC Lower Level by restoring access between the CCL at D Deck and the RC Lower Level and the proposed modification will improve personnel access to the CV by constructing a horizontal access portal that will be secured by the D Deck CV Door. Neither the proposed changes to the TSs nor the modifications that require those changes affect basic plant operation of a permanently shutdown and defueled facility.

The completed modification restored the original forward access between the CCL at D Deck and the RC Lower Level to improve normal personnel access to the RC Lower Level. It also improved the ability to remove an injured person from the RC Lower Level.

Prior to completing the modification, the only access to the RC Lower Level was via a 12 in. radius access trunk down an approximately 36 ft. ladder from B Deck of the RC to the RC Lower Level at the Tank Top. Emergency personnel egress from the RC Lower Level will be available through either the D Deck opening or the 12 in. radius access trunk down an approximately 36 ft. ladder from B Deck of the RC to the RC Lower Level at the Tank Top.

This modification effectively expanded the boundary of the RC to include the CCL and therefore, requires the proposed change to TS 3.7.1.5 to include the C Deck entrance to the CCL.

The proposed modification—to construct a horizontal access portal that will be secured by the D Deck CV Door—is an improvement in personnel safety. Emergency personnel egress from the CV, in addition to that provided by existing ladders, will be available through the open D Deck CV Door.

The proposed modification will add an access to the CV that has not previously existed and therefore, requires the proposed change to TS 3.7.1.5 to include the D Deck CV Door. Note that this door will open into a passageway similar to the B Beck RC door that is currently the only door listed in TS 3.7.1.5. However, since the proposed D Deck CV Door will provide a direct access to the CV, a change is also proposed to TS 3.7.1.1 to include all CV entrances into its scope.

If any event requires shutting any door to the CV or RC, the limiting closure time is the time it would take for the door guard to simply swing the door shut and secure it with installed dogs or quick closure operators. The worst case time to secure any door is the time to secure the D Deck CV Door, a watertight double door. The time to secure it is estimated to be approximately 120 seconds after the CV and RC have been checked to be free of personnel. Administrative controls will be put in place to ensure that (1) the swing path of the door is not blocked, (2) the door shall not be fouled and (3) trained personnel will be in the immediate vicinity of the door and available to close it in a timely manner following any event where closing the door is appropriate.

The NSS's reactor is not operational and the level of radioactivity in the NSS has significantly decreased from the levels that existed when the 1976 Possession-only License was issued. No aspect of any of the proposed changes is an initiator of any accident previously evaluated. Consequently, the probability of an accident previously evaluated is not significantly increased.

Therefore, the proposed changes do not involve a significant increase in the probability or consequences of an accident previously evaluated.

2. Does the proposed amendment create the possibility of a new or different kind of accident from any accident previously evaluated?

Response: No.

The proposed changes will modify the Technical Specifications (TSs) to include all CV accesses into TS 3.7.1.1 and add two additional accesses into TS 3.7.1.5. The proposed changes are required by two modifications to plant equipment. The completed modification improved personnel access to the RC Lower Level by restoring access between the CCL at D Deck and the RC Lower Level and the proposed modification will improve personnel access to the CV by constructing a horizontal access portal that will be secured by the D Deck CV Door. Neither the proposed changes to the TSs nor the modifications that require those changes affect basic plant operation of a permanently shutdown and defueled facility.

In both cases, the physical alteration of plant equipment is similar to that which was previously allowed by Technical Specifications. Specifically, since November 1995, the C Deck Door to the Cold Chemistry Laboratory has been locked from the outside and fitted with an intrusion alarm that alerts a security monitoring station. When opened, the door has been manned and protected. Likewise, the D Deck CV Door shall be locked from the outside and fitted with an intrusion alarm that alerts a security monitoring station; when opened the D Deck CV Door shall be manned and protected.

Neither of the proposed changes to TS 3.7.1.1 and TS 3.7.1.5 will change the method by which any safety-related system performs its function. As such, no new or different types of equipment will be installed, and the basic operation of installed equipment is unchanged. The methods governing plant operation and testing remain consistent with current safety analysis assumptions.

Therefore, the proposed changes do not create the possibility of a new or different kind of accident from any previously evaluated.

3. Does the change involve a significant reduction in a margin of safety?

Response: No.

The proposed changes will modify the Technical Specifications (TSs) to include all CV accesses into TS 3.7.1.1 and add two additional accesses into TS 3.7.1.5. The proposed changes are required by two modifications to plant equipment. The completed modification improved personnel access to the RC Lower Level by restoring access between the CCL at D Deck and the RC Lower Level and the proposed modification will improve personnel access to the CV by constructing a horizontal access portal that will be secured by the D Deck CV Door. Neither the proposed changes to the TSs nor the modifications that require those changes affect any margins of safety that are relevant to the ship's defueled and partially dismantled reactor.

The completed modification improved personnel access to the RC Lower Level by restoring access between the CCL at D Deck and the RC Lower Level. The proposed modification will improve personnel access to the CV by constructing a horizontal access portal that will be secured by the D Deck CV Door.

As such, there are no changes being made to safety analysis assumptions, safety limits or safety system settings that would adversely affect plant safety or are relevant to the ship's defueled and partially dismantled reactor as a result of the proposed changes.

Additionally, when any door to the CV or RC door is open, administrative controls will be put in place to ensure that (1) the swing path of the door is not blocked, (2) the door shall not be fouled and (3) trained personnel will be in the immediate vicinity of the door and available to close it in a timely manner following any event where closing the door is appropriate.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Advisor for licensee: Erhard W. Koehler, U.S. Department of Transportation, Maritime Administration, 1200 New Jersey Ave. SE, Washington, DC 20590.

NRC Branch Chief: Bruce Watson.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation, and/or Environmental Assessment, as indicated. All of these items can be accessed as described in the “Obtaining Information and Submitting Comments” section of this document.

Duke Energy Carolinas, LLC, Docket Nos. 50-269, 50-270, and 50-287, Oconee Nuclear Station, Unit Nos. 1, 2, and 3, Oconee County, South Carolina

Date of amendment request: March 30, 2017, as supplemented by letters dated May 11 and October 16, 2017, and April 4, 2018.

Brief description of amendments: The amendments revised the Technical Specifications in accordance with the NRC-approved Technical Specifications Task Force (TSTF) Standard Technical Specifications Change Traveler TSTF-448, Revision 3, “Control Room Habitability,” with variations from TSTF-448 because of the plant's design and licensing basis.

Date of issuance: April 12, 2018.

Effective date: As of the date of issuance and shall be implemented within 180 days of issuance.

Amendment Nos.: 408, 410, and 409. A publicly-available version is in ADAMS under Accession No. ML18040A194; documents related to these amendments are listed in the Safety Evaluation enclosed with the amendments.

Facility Operating License Nos. DPR-38, DPR-47 and DPR-55: Amendments revised the Facility Operating Licenses and Technical Specifications.

Date of initial notice in Federal Register: July 18, 2017 (82 FR 32879). The supplemental letters dated October 16, 2017, and April 4, 2018, provided additional information that clarified the application, did not expand the scope of the application as originally noticed, and did not change the NRC staff's original proposed no significant hazards consideration determination as published in the Federal Register.

The Commission's related evaluation of the amendment is contained in a Safety Evaluation dated April 12, 2018.

No significant hazards consideration comments received: No.

Duke Energy Progress Inc., Docket No. 50-261, H.B. Robinson Steam Electric Plant, Unit No. 2 (Robinson), Darlington County, South Carolina

Duke Energy Progress, LLC, Docket No. 50-400, Shearon Harris Nuclear Power Plant, Unit 1 (Harris), Wake and Chatham Counties, North Carolina

Date of amendment request: November 19, 2015, as superseded by application dated October 3, 2016, and as supplemented by letters dated November 10, 2016, and October 9, October 30, and December 19, 2017.

Brief description of amendments: The amendments revised the Robinson Technical Specification (TS) 5.6.5.b and the Harris TS 6.9.1.6.2 to adopt the methodology reports DPC-NE-3008-P, Revision 0, “Thermal-Hydraulic Models for Transient Analysis,” and DPC-NE-3009-P, Revision 0, “FSAR/UFSAR Chapter 15 Transient Analysis Methodology,” for application specific to Robinson and Harris.

Date of issuance: April 10, 2018.

Effective date: As of the date of issuance and shall be implemented within 120 days of issuance.

Amendment Nos.: 164 (Robinson) and 257 (Harris). A publicly-available version is in ADAMS under Accession No. ML18060A401; documents related to these amendments are listed in the Safety Evaluation enclosed with the amendments.

Renewed Facility Operating License Nos. DPR-23 and NPF-63: Amendments revised the Facility Operating Licenses and TSs.

Date of initial notice in Federal Register: April 5, 2016 (81 FR 19645). The supplemental letter dated October 3, 2016, provided additional information that expanded the scope of the application as originally noticed, and changed the NRC staff's original proposed no significant hazards consideration determination as published in the Federal Register. Accordingly, the NRC published a second proposed no significant hazards consideration determination in the Federal Register on May 2, 2017 (82 FR 20496). This notice superseded the original notice in its entirety. The supplemental letters dated November 10, 2016, and October 9, October 30, and December 19, 2017, provided additional information that clarified the application, did not expand the scope beyond the second notice, and did not change the NRC staff's proposed no significant hazards consideration determination as published in the Federal Register.

The Commission's related evaluations of the amendments are contained in the Safety Evaluation dated April 10, 2018.

No significant hazards consideration comments received: No.

Duke Energy Progress, LLC, Docket Nos. 50-325 and 50-324, Brunswick Steam Electric Plant, Unit Nos. 1 and 2 (Brunswick), Brunswick County, North Carolina

Date of amendment request: June 29, 2017, as supplemented by letters dated January 4 and January 23, 2018.

Brief description of amendments: The amendments adopted Technical Specifications Task Force (TSTF) Traveler TSTF-542, Revision 2, “Reactor Pressure Vessel Water Inventory Control [RPVWIC].” The amendments replaced existing technical specification (TS) requirements associated with “operations with the potential for draining the reactor vessel,” with revised TSs providing alternative requirements for RPVWIC. These alternative requirements protect Safety Limit 2.1.1.3, which states, “Reactor vessel water level shall be greater than the top of active irradiated fuel.”

Date of issuance: April 13, 2018.

Effective date: As of the date of issuance and shall be implemented: (1) For Unit 1, within 180 days of issuance and (2) for Unit 2, prior to its 2019 refueling outage.

Amendment Nos.: 283 (Unit No. 1) and 311 (Unit No. 2). A publicly-available version is in ADAMS under Accession No. ML18039A444; documents related to these amendments are listed in the Safety Evaluation enclosed with the amendments.

Renewed Facility Operating License Nos. DPR-71 and DPR-62: Amendments revised the Renewed Facility Operating Licenses and TSs.

Date of initial notice in Federal Register: September 12, 2017 (82 FR 42846). The supplemental letters dated January 4 and January 23, 2018, provided additional information that clarified the application, did not expand the scope of the application as originally noticed, and did not change the NRC staff's original proposed no significant hazards consideration determination as published in the Federal Register.

The Commission's related evaluation of the amendments is contained in a Safety Evaluation dated April 13, 2018.

No significant hazards consideration comments received: No.

Energy Northwest, Docket No. 50-397, Columbia Generating Station, Benton County, Washington

Date of amendment request: August 30, 2016, as supplemented by letter dated November 20, 2017.

Brief description of amendment: The amendment revised the Columbia Generating Station Final Safety Analysis Report to reclassify reactor water cleanup piping, valves, pumps, and mechanical modules located outside of the primary and secondary containment in the radwaste building from Quality Group C to Quality Group D.

Date of issuance: April 17, 2018.

Effective date: As of its date of issuance and shall be implemented within 120 days from the date of issuance.

Amendment No.: 248. A publicly-available version is in ADAMS under Accession No. ML18075A351; documents related to this amendment are listed in the Safety Evaluation enclosed with the amendment.

Renewed Facility Operating License No. NPF-21: The amendment revised the Final Safety Analysis Report.

Date of initial notice in Federal Register: December 6, 2016 (81 FR 87968). The supplemental letter dated November 20, 2017, provided additional information that clarified the application, did not expand the scope of the application as originally noticed, and did not change the NRC staff's original proposed no significant hazards consideration determination as published in the Federal Register.

The Commission's related evaluation of the amendment is contained in a Safety Evaluation dated April 17, 2018.

No significant hazards consideration comments received: No.

PSEG Nuclear LLC and Exelon Generation Company, LLC, Docket Nos. 50-272 and 50-311, Salem Nuclear Generating Station, Unit Nos. 1 and 2, Salem County, New Jersey

Date of amendment request: September 27, 2017.

Brief description of amendments: The amendments relocated the Reactor Coolant System Pressure Isolation Valve Table from the Technical Specifications to the Technical Requirements Manual. The amendments also removed references to the table and moved all notes and leakage acceptance criteria from the table to the Technical Specification surveillance requirements.

Date of issuance: April 18, 2018.

Effective date: As of the date of issuance and shall be implemented within 60 days of issuance.

Amendment Nos.: 323 (Unit No. 1) and 304 (Unit No. 2). A publicly-available version is in ADAMS under Accession No. ML18040A778; documents related to these amendments are listed in the Safety Evaluation enclosed with the amendments.

Renewed Facility Operating License Nos. DPR-70 and DPR-75: The amendments revised the Renewed Facility Operating Licenses and Technical Specifications.

Date of initial notice in Federal Register: November 21, 2017 (82 FR 55408).

The Commission's related evaluation of the amendments is contained in a Safety Evaluation dated April 18, 2018.

No significant hazards consideration comments received: No.

PSEG Nuclear LLC and Exelon Generation Company, LLC, Docket Nos. 50-272 and 50-311, Salem Nuclear Generating Station, Unit Nos. 1 and 2, Salem County, New Jersey

Date of amendment request: February 8, 2018.

Brief description of amendments: The amendments modified the Salem Nuclear Generating Station, Unit Nos. 1 and 2, Technical Specification (TS)-allowed outage time for more than one inoperable analog rod position indicator from 1 hour to 24 hours and changed the basis for entry into the TS actions for inoperable rod position indicators from “per bank” to “per group.” The amendments also separated existing TS 3.1.3.2.1, Action a.1, into two separate actions and removed the duplicative Action b (Unit No. 1 only).

Date of issuance: April 18, 2018.

Effective date: As of the date of issuance and shall be implemented within 30 days from the date of issuance.

Amendment Nos.: 324 (Unit No. 1) and 305 (Unit No. 2). A publicly-available version is in ADAMS under Accession No. ML18085B198; documents related to these amendments are listed in the Safety Evaluation enclosed with the amendments.

Renewed Facility Operating License Nos. DPR-70 and DPR-75: The amendments revised the Renewed Facility Operating Licenses and TSs.

Date of initial notice in Federal Register: March 1, 2018 (83 FR 8904).

The Commission's related evaluation of the amendments is contained in a Safety Evaluation dated April 18, 2018.

No significant hazards consideration comments received: No.

PSEG Nuclear LLC, Docket No. 50-354, Hope Creek Generating Station (HCGS), Salem County, New Jersey

Date of amendment request: November 9, 2017, as supplemented by letter dated January 22, 2018.

Brief description of amendment: The amendment revised the HCGS Technical Specifications. Specifically, the amendment revised the safety limit minimum critical power ratio for two recirculation loop operation and single recirculation loop operation based on the HCGS Cycle 22 specific analysis.

Date of issuance: April 11, 2018.

Effective date: As of the date of issuance and shall be implemented prior to startup following the spring 2018 refueling outage.

Amendment No.: 211. A publicly-available version is in ADAMS under Accession No. ML18081A044; documents related to this amendment are listed in the Safety Evaluation enclosed with the amendment.

Renewed Facility Operating License No. NPF-57: The amendment revised the renewed facility operating license and technical specifications.

Date of initial notice in Federal Register: February 6, 2018 (83 FR 5281). The supplemental letter dated January 22, 2018, provided additional information that clarified the application, did not expand the scope of the application as originally noticed, and did not change the NRC staff's original proposed no significant hazards consideration determination as published in the Federal Register.

The Commission's related evaluation of the amendment is contained in a Safety Evaluation dated April 11, 2018.

No significant hazards consideration comments received: No.

Southern Nuclear Operating Company, Docket Nos. 52-025 and 52-026, Vogtle Electric Generating Plant (VEGP), Unit Nos. 3 and 4, Burke County, Georgia

Date of amendment request: September 13, 2017.

Description of amendment: The amendments authorized changes to the VEGP, Unit Nos. 3 and 4, Updated Final Safety Analysis Report in the form of departures from the plant-specific Design Control Document Tier 2 information and involved related changes to the VEGP, Units 3 and 4, Combined License (COL) Appendix A, Technical Specifications.

The amendments authorized changes to the mass of trisodium phosphate required inside containment to provide adjustment of the pH of the water in the containment following an accident in which the containment floods. These changes are reflected in COL Appendix A.

Date of issuance: February 27, 2018.

Effective date: As of the date of issuance and shall be implemented within 30 days of issuance.

Amendment Nos.: 110 (Unit No. 3) and 109 (Unit No. 4). A publicly-available version is in ADAMS under Package Accession No. ML18030A612; documents related to these amendments are listed in the Safety Evaluation enclosed with the amendments.

Facility Combined Licenses Nos. NPF-91 and NPF-92: Amendments revised the facility COL.

Date of initial notice in Federal Register: November 21, 2017 (82 FR 55401).

The Commission's related evaluation of the amendments is contained in a Safety Evaluation dated February 27, 2018.

No significant hazards consideration comments received: No.

Dated at Rockville, Maryland, this 26th day of April 2018.
For the Nuclear Regulatory Commission.
Tara Inverso,
Acting Deputy Director, Division of Operating Reactor Licensing, Office of Nuclear Reactor Regulation.

[FR Doc. 2018-09244 Filed 5-7-18; 8:45 am]

BILLING CODE 7590-01-P